DEPARTMENT OF THE INTERIOR

Bureau of Ocean Energy Management

[Docket No. BOEM-2023-0003]

Outer Continental Shelf Official Protraction Diagrams and Official Protraction Aliquot Diagrams

AGENCY: Bureau of Ocean Energy Management, Interior.

ACTION: Notice of availability.

SUMMARY: This notice announces the availability of the new North American Datum of 1983 (NAD83)-based Outer Continental Shelf (OCS) official protraction diagrams (OPDs) and official protraction aliquot diagrams (OPADs) depicting geographic areas in the Gulf of Mexico (GOM). These diagrams may be used for the description of potential renewable energy and mineral lease sales in the geographic areas that the diagrams represent.

ADDRESSES: Copies of the new OPDs and OPADs are available for download in .pdf format from https://www.boem.gov/gom83-cadastral-data.

FOR FURTHER INFORMATION CONTACT: Beth Wenstrom, Chief, Geospatial Services Division, Office of Strategic Resources, at (703) 787-1312 or via email at beth.wenstrom@boem.gov.

SUPPLEMENTARY INFORMATION: These diagrams represent BOEM's new OPDs and OPADs for the U.S. OCS seaward of the States of Louisiana and Texas in the NAD83 datum as described by the Submerged Lands Act. (43 U.S.C. 1301, et seq.). OPDs and OPADs depict the cadastral subdivisions of the OCS that legally define all leasing areas. The diagrams depict areal measurements and offshore boundaries and identify Federal and State jurisdiction for individual OCS leasing blocks. These OPDs and OPADs delineate the Submerged Lands Act boundaries and the limit of the “8(g)/8(p) Zone” boundaries, as provided in those sections of the OCS Lands Act 43 U.S.C. 1337(g) and (p). Available diagrams have the latest approval date under the diagram number and may also carry the name of a city, town, or prominent natural feature within them. Further information is provided on the specific OPDs and OPADs.

These new OPDs and OPADs cover the area included in the “Call for Information and Nominations—Commercial Leasing for Wind Power Development on the Outer Continental Shelf in the Gulf of Mexico.” See 86 FR 60283, November 1, 2021, section 3 for a detailed description of the call area. The extent of the published diagram coverage is shown in figure 1.

Figure 1

The new OPDS and OPADs neither supersede nor replace the North American Datum of 1927 OPDs (NAD 27 OPDs), the Texas and Louisiana leasing maps (LMs), nor notices to lessees (NTLs) previously published by BOEM and currently used for oil and gas leasing (e.g., NTL No. 2009-G29). For purposes of oil and gas leasing, BOEM will continue to use the NAD 27 OPDs and LMs.

The OPDs and OPADs described in this notice are published to support potential future GOM offshore renewable energy and mineral lease sales and to supersede the provisional OPDs and OPADs published on August 19, 2022. See 87 FR 51133.

Outer Continental Shelf OPDs and OPADs in the Gulf of Mexico

Description—Date (in mm/dd/yyyy Format)

OPD Gulf of Mexico NAD83 Index Map—11/1/2022

OPD NG14-09 (Brownsville)—11/1/2022

OPAD NG14-09 (Brownsville)—11/1/2022

OPD NG14-06 (Port Isabel)—11/1/2022

OPAD NG14-06 (Port Isabel)—11/1/2022

OPD NG14-03 (Corpus Christi)—11/1/2022

OPAD NG14-03 (Corpus Christi)—11/1/2022

OPD NH14-12 (Beeville)—11/1/2022

OPAD NH14-12 (Beeville)—11/1/2022

OPD NG15-01 (East Breaks)—11/1/2022

OPAD NG15-01 (East Breaks)—11/1/2022

OPD NG15-02 (Garden Banks)—11/1/2022

OPAD NG15-02 (Garden Banks)—11/1/2022

OPD NG15-03 (Green Canyon)—11/1/2022

OPAD NG15-03 (Green Canyon)—11/1/2022

OPD NH15-10 (Bay City)—11/1/2022

OPAD NH15-10 (Bay City)—11/1/2022

OPD NH15-11 (Bouma Bank)—11/1/2022

OPAD NH15-11 (Bouma Bank)—11/1/2022

OPD NH15-12 (Ewing Bank)—11/1/2022

OPAD NH15-12 (Ewing Bank)—11/1/2022

OPD NH15-07 (Houston)—11/1/2022

OPAD NH15-07 (Houston)—11/1/2022

OPD NH15-08 (Port Arthur)—11/1/2022

OPAD NH15-08 (Port Arthur)—11/1/2022

OPD NH15-09 (New Orleans)—11/1/2022

OPAD NH15-09 (New Orleans)—11/1/2022

OPD NH16-10 (Mississippi Canyon)—11/1/2022

OPAD NH16-10 (Mississippi Canyon)—11/1/2022

OPD NH16-07 (Viosca Knoll)—11/1/2022

OPAD NH16-07 (Viosca Knoll)—11/1/2022.

Authority: OCS Lands Act, 43 U.S.C. 1331 et seq; 30 CFR 550.400.

Elizabeth Klein,
Director, Bureau of Ocean Energy Management.

[FR Doc. 2023-08444 Filed 4-20-23; 8:45 am]

BILLING CODE 4340-98-P